DEPARTMENT OF LABOR

Employment and Training Administration

[TA-W-65,434]

JL French Automotive Castings, Inc., Sheboygan, WI; Notice of Termination of Investigation

Pursuant to Section 221 of the Trade Act of 1974, as amended, an investigation was initiated on February 27, 2009 in response to a petition filed by a company official on behalf of workers of JL French Automotive Castings, Inc., Sheboygan, Wisconsin.

The petitioner has requested that the petition be withdrawn. Therefore, the investigation under this petition has been terminated.

Signed at Washington, DC, this 19th day of March 2009.
Linda G. Poole,
Certifying Officer, Division of Trade Adjustment Assistance.

[FR Doc. E9-7761 Filed 4-6-09; 8:45 am]

BILLING CODE 4510-FN-P